ENVIRONMENTAL PROTECTION AGENCY

40 CFR Parts 1, 2, 21, 35, 52, 59, 60, 61, 62, 63, 65, 82, 147, 282, 374, 707, and 763

[EPA-R07-OAR-2013-0410; FRL-9825-5]

Change of Address for Region 7; Technical Correction

AGENCY: Environmental Protection Agency (EPA).

ACTION: Final rule; technical amendment.

SUMMARY: EPA is amending its regulations to reflect a change in address for EPA's Region 7 office. This action is editorial in nature and is intended to provide accuracy and clarity to the Agency's regulations.

DATES: This final rule is effective June 25, 2013.

FOR FURTHER INFORMATION CONTACT: Jan Simpson, Environmental Protection Agency, Air Planning and Development Branch, 11201 Renner Boulevard, Lenexa, Kansas 66219 at (913) 551-7089, or by email at simpson.jan@epa.gov.

SUPPLEMENTARY INFORMATION:

I. Background

EPA is amending its regulations in 40 CFR parts 1, 2, 21, 35, 52, 59, 60, 61, 62, 63, 65, 82, 147, 282, 374, 707 and 763 to reflect a change in the address for EPA's Region 7 office. This technical amendment merely updates and corrects the address for EPA's Region 7 office. EPA has determined that today's rule falls under the “good cause” exemption in section 553(b)(3)(B) of the Administrative Procedures Act (APA) which, upon finding “good cause,” authorizes agencies to dispense with public participation and section 553(d)(3) which allows an agency to make a rule effective immediately (thereby avoiding the thirty day delayed effective date otherwise provided for in the APA). Under section 553 of the APA, an agency may find good cause where procedures are “impractical, unnecessary, or contrary to the public interest.” Public comment is “unnecessary” and “contrary to the public interest” since the address for Region 7 has changed and immediate notice in the CFR benefits the public by updating citations.

II. Statutory and Executive Order Reviews

This final rule implements technical amendments to 40 CFR parts 1, 2, 21, 35, 52, 59, 60, 61, 62, 63, 65, 82, 147, 282, 374, 707 and 763 to reflect a change in the address for EPA's Region 7 office. It does not otherwise impose or amend any requirements. Consequently, under Executive Order 12866 (58 FR 51735, October 4, 1993), this action is not a “significant regulatory action” and therefore is not subject to review by the Office of Management and Budget. The rule would not impose an information collection burden under the provisions of the Paperwork Reduction Act of 1995 (44 U.S.C. 3501 et seq.). Because this action is merely editorial in nature, the Administrator certifies that it would not have a significant economic impact on a substantial number of small entities under the Regulatory Flexibility Act (5 U.S.C. 601 et seq.). The rule does not contain any unfunded mandate or significantly or uniquely affect small governments, as described in the Unfunded Mandates Reform Act of 1995 (Pub. L. 104-4).

This action does not have Federalism implications because it would not have substantial direct effects on the States, on the relationship between the national government and the States, or on the distribution of power and responsibilities among the various levels of government, as specified in Executive Order 13132 (64 FR 43255, August 10, 1999). Additionally, it does not have Tribal implications because it would not have a substantial direct effect on one or more Indian Tribes, on the relationship between the Federal Government and Indian Tribes, or on the distribution of power and responsibilities between the Federal Government and Indian Tribes, as specified by Executive Order 13175 (65 FR 67249, November 9, 2000).

This rule also is not an economically significant regulatory action based on health or safety risks subject to Executive Order 13045 “Protection of Children from Environmental Health Risks and Safety Risks” (62 FR 19885, April 23, 1997), nor is it subject to Executive Order 13211, “Actions Concerning Regulations That Significantly Affect Energy Supply, Distribution, or Use” (66 FR 28355, May 22, 2001). It does not involve any technical standards that require the Agency's consideration of voluntary consensus standards pursuant to section 12(d) of the National Technology Transfer and Advancement Act of 1995, Public Law 104-113, section 12(d) (15 U.S.C. 272 note). Finally, it does not provide EPA with the discretionary authority to address, as appropriate, disproportionate human health or environmental effects, using practicable and legally permissible methods under Executive Order 12898 (59 FR 7629, February 16, 1994).

III. Congressional Review Act

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of the CRA allows the issuing agency to make a rule effective sooner than otherwise provided by the CRA, if the agency makes a good cause finding that notice and public procedure is impracticable, unnecessary, or contrary to the public interest. This determination must be supported by a brief statement (5 U.S.C. 808(2)). As stated earlier, EPA has made such a good cause finding, including the reasons therefore, and established an effective date of August 11, 2011. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 1

Environmental protection, Organization and functions (Government agencies).

40 CFR Part 2

Environmental protection, Administrative practice and procedure, Confidential business information, Courts, Freedom of information, Government employees.

40 CFR Part 21

Environmental protection, Administrative practice and procedure, Small businesses, Water pollution control.

40 CFR Part 35

Environmental protection, Air pollution control, Coastal zone, Grant programs—environmental protection, Grant programs—Indians, Hazardous waste, Indians, Intergovernmental relations, Pesticides and pests, Reporting and recordkeeping requirements, Technical assistance, Waste treatment and disposal, Water pollution control, Water supply.

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 59

Environmental protection, Air pollution control, Confidential business information, Labeling, Ozone, Reporting and recordkeeping requirements, Volatile organic compounds.

40 CFR Part 60

Environmental protection, Administrative practice and procedure, Air pollution control, Aluminum, Ammonium sulfate plants, Batteries, Beverages, Carbon monoxide, Cement industry, Chemicals, Coal, Copper, Dry cleaners, Electric power plants, Fertilizers, Fluoride, Gasoline, Glass and glass products, Grains, Graphic arts industry, Heaters, Household appliances, Insulation, Intergovernmental relations, Iron, Labeling, Lead, Lime, Metallic and nonmetallic mineral processing plants, Metals, Motor vehicles, Natural gas, Nitric acid plants, Nitrogen dioxide, Paper and paper products industry, Particulate matter, Paving and roofing materials, Petroleum, Phosphate, Plastics materials and synthetics, Polymers, Reporting and recordkeeping requirements, Sewage disposal, Steel, Sulfur oxides, Sulfuric acid plants, Tires, Urethane, Vinyl, Volatile organic compounds, Waste treatment and disposal, Zinc.

40 CFR Part 61

Environmental protection, Air pollution control, Arsenic, Asbestos, Benzene, Beryllium, Hazardous substances, Mercury, Radionuclides, Radon, Reporting and recordkeeping requirements, Uranium, Vinyl chloride.

40 CFR Part 62

Environmental protection, Administrative practice and procedure, Air pollution control, Aluminum, Fertilizers, Fluoride, Intergovernmental relations, Paper and paper products industry, Phosphate, Reporting and recordkeeping requirements, Sulfur oxides, Sulfuric acid plants, Waste treatment and disposal.

40 CFR Part 63

Environmental protection, Administrative practice and procedure, Air pollution control, Hazardous substances, Intergovernmental relations, Reporting and recordkeeping requirements.

40 CFR Part 65

Environmental protection, Air pollution control, Intergovernmental relations, Reporting and recordkeeping requirements.

40 CFR Part 82

Environmental protection, Administrative practice and procedure, Air pollution control, Chemicals, Exports, Government procurement, Imports, Labeling, Reporting and recordkeeping requirements.

40 CFR Part 147

Environmental protection, Indians-lands, Intergovernmental relations, Reporting and recordkeeping requirements, Water supply.

40 CFR Part 282

Environmental protection, Hazardous substances, Insurance, Intergovernmental relations, Oil pollution, Surety bonds, Water pollution control, Water supply.

40 CFR Part 374

Environmental protection, Administrative practice and procedure, Air pollution control, Hazardous substances, Hazardous waste, Natural resources, Superfund, Water pollution control, Water supply.

40 CFR Part 707

Environmental protection, Chemicals, Environmental protection, Exports, Hazardous substances, Reporting and recordkeeping requirements.

40 CFR Part 763

Environmental protection, Administrative practice and procedure, Asbestos, Confidential business information, Environmental protection, Hazardous substances, Imports, Intergovernmental relations, Labeling, Occupational safety and health, Reporting and recordkeeping requirements, Schools.

Dated: June 6, 2013.
Karl Brooks,
Regional Administrator, Region 7.

40 CFR parts 1, 2, 21, 35, 52, 59, 60, 61, 62, 63, 65, 82, 147, 282, 374, 707, and 763 are amended as follows:

PART 1—STATEMENT OF ORGANIZATION AND GENERAL INFORMATION

1. The authority citation for part 1 continues to read as follows:

Authority: 5 U.S.C. 552.

Subpart A—Introduction

2. Section 1.7 is amended by revising paragraph (b)(7) to read as follows:

§ 1.7 Location of principal offices.

* * * * *

(b) * * *

(7) Region 7, U.S. Environmental Protection Agency, 11201 Renner Boulevard, Lenexa, Kansas 66219. (Iowa, Kansas, Missouri, and Nebraska.)

* * * * *

PART 2—PUBLIC INFORMATION

3. The authority citation for part 2 continues to read as follows:

Authority: 5 U.S.C. 301, 552 (as amended), 553; secs. 114, 205, 208, 301, and 307, Clean Air Act, as amended (42 U.S.C. 7414, 7525, 7542, 7601, 7607); secs. 308, 501 and 509(a), Clean Water Act, as amended (33 U.S.C. 1318, 1361, 1369(a)); sec. 13, Noise Control Act of 1972 (42 U.S.C. 4912); secs. 1445 and 1450, Safe Drinking Water Act (42 U.S.C. 300j-4, 300j-9); secs. 2002, 3007, and 9005, Solid Waste Disposal Act, as amended (42 U.S.C. 6912, 6927, 6995); secs. 8(c), 11, and 14, Toxic Substances Control Act (15 U.S.C. 2607(c), 2610, 2613); secs. 10, 12, and 25, Federal Insecticide, Fungicide, and Rodenticide Act, as amended (7 U.S.C. 136h, 136j, 136w); sec. 408(f), Federal Food, Drug and Cosmetic Act, as amended (21 U.S.C. 346(f)); secs. 104(f) and 108, Marine Protection Research and Sanctuaries Act of 1972 (33 U.S.C. 1414(f), 1418); secs. 104 and 115, Comprehensive Environmental Response, Compensation, and Liability Act of 1980, as amended (42 U.S.C. 9604 and 9615); sec. 505, Motor Vehicle Information and Cost Savings Act, as amended (15 U.S.C. 2005).

Subpart A—Procedures for Disclosure of Records Under the Freedom of Information Act

4. Section 2.101 is amended by revising paragraph (a)(7) to read as follows:

§ 2.101 Where requests for records are to be filed.

(a) * * *

(7) Region VII (IA, KS, MO, NE): EPA, Freedom of Information Officer, 11201 Renner Boulevard, Lenexa, Kansas 66219; email: r7foia@epa.gov. http://www.epa.gov/region07/citizens/foia/index.htm, https://foiaonline.regulations.gov/foia/action/public/home.

PART 21—SMALL BUSINESS

5. The authority citation for part 21 continues to read as follows:

Authority: 15 U.S.C. 636, as amended by Pub. L. 92-500.

6. Section 21.3 is amended by revising the entry for Region VII in the table in paragraph (a) to read as follows:

§ 21.3 Submission of applications.

(a) * * *

Region | Address | State
| * * * * * * *
VII | Regional Administrator, EPA Region VII, 11201 Renner Boulevard, Lenexa, Kansas 66219 | Iowa, Kansas, Missouri, and Nebraska.
| * * * * * * *

* * * * *

PART 35—STATE AND LOCAL ASSISTANCE

7. The authority citation for part 35 continues to read as follows:

Authority: 42 U.S.C. 4368b, unless otherwise noted.

Subpart M—Grants for Technical Assistance

8. Section 35.4275 is amended by revising paragraph (g) to read as follows:

§ 35.4275 Where can my group get the documents this subpart references (for example, OMB circulars, other subparts, forms)?

* * * * *

(g) TAG Coordinator or Grants Office, U.S. EPA Region 7, 11201 Renner Boulevard, Lenexa, Kansas 66219.

* * * * *

PART 52—APPROVAL AND PROMULGATION OF IMPLEMENTATION PLANS

9. The authority citation for part 52 continues to read as follows:

Authority: 42 U.S.C. 7401 et seq.

Subpart A—General Provisions

10. Section 52.02 is amended by revising paragraph (d)(2)(vii) to read as follows:

§ 52.02 Introduction.

* * * * *

(d) * * *

(2) * * *

(vii) Iowa, Kansas, Missouri, and Nebraska. Environmental Protection Agency, Region 7, 11201 Renner Boulevard, Lenexa, Kansas 66219.

* * * * *

11. Section 52.16 is amended by revising paragraph (b)(7) to read as follows:

§ 52.16 Submission to Administrator.

* * * * *

(b) * * *

(7) Iowa, Kansas, Missouri, and Nebraska. Environmental Protection Agency, Region 7, 11201 Renner Boulevard, Lenexa, Kansas 66219.

* * * * *

Subpart Q—Iowa

12. Section 52.820 is amended by revising paragraph (b)(3) to read as follows:

§ 52.820 Identification of plan.

* * * * *

(b) * * *

(3) Copies of the materials incorporated by reference may be inspected at the Environmental Protection Agency, Region 7, Air Planning and Development Branch, 11201 Renner Boulevard, Lenexa, Kansas 66219; at EPA Air and Radiation Docket and Information Center, EPA West Building, 1301 Constitution Avenue NW., Washington, DC 20460; or at the National Archives and Records Administration (NARA). If you wish to obtain material from the EPA Regional Office, please call (800) 223-0425 or (913) 551-7122; for material from a docket in EPA Headquarters Library, please call the Office of Air and Radiation Docket at (202) 566-1742. For information on the availability of this material at NARA, call (202) 741-6030, or go to: http://www.archives.gov/federal_register/code_of_federal_regulations/ibr_locations.html.

* * * * *

Subpart R—Kansas

13. Section 52.870 is amended by revising paragraph (b)(3) to read as follows:

§ 52.870 Identification of plan.

* * * * *

(b) * * *

(3) Copies of the materials incorporated by reference may be inspected at the Environmental Protection Agency, Region 7, Air Planning and Development Branch, 11201 Renner Boulevard, Lenexa, Kansas 66219; at EPA Air and Radiation Docket and Information Center, EPA West Building, 1301 Constitution Avenue NW., Washington, DC 20460; or at the National Archives and Records Administration (NARA). If you wish to obtain material from the EPA Regional Office, please call (800) 223-0425 or (913) 551-7122; for material from a docket in EPA Headquarters Library, please call the Office of Air and Radiation Docket at (202) 566-1742. For information on the availability of this material at NARA, call (202) 741-6030, or go to: http://www.archives.gov/federal_register/code_of_federal_regulations/ibr_locations.html.

* * * * *

Subpart AA—Missouri

14. Section 52.1320 is amended by revising paragraph (b)(3) to read as follows:

§ 52.1320 Identification of plan.

* * * * *

(b) * * *

(3) Copies of the materials incorporated by reference may be inspected at the Environmental Protection Agency, Region 7, Air Planning and Development Branch, 11201 Renner Boulevard, Lenexa, Kansas 66219; at EPA Air and Radiation Docket and Information Center, EPA West Building, 1301 Constitution Avenue NW., Washington, DC 20460; or at the National Archives and Records Administration (NARA). If you wish to obtain material from the EPA Regional Office, please call (800) 223-0425 or (913) 551-7122; for material from a docket in EPA Headquarters Library, please call the Office of Air and Radiation Docket at (202) 566-1742. For information on the availability of this material at NARA, call (202) 741-6030, or go to: http://www.archives.gov/federal_register/code_of_federal_regulations/ibr_locations.html.

* * * * *

Subpart CC—Nebraska

15. Section 52.1420 is amended by revising paragraph (b)(3) to read as follows:

§ 52.1420 Identification of Plan.

* * * * *

(b) * * *

(3) Copies of the materials incorporated by reference may be inspected at the Environmental Protection Agency, Region 7, Air Planning and Development Branch, 11201 Renner Boulevard, Lenexa, Kansas 66219; at EPA Air and Radiation Docket and Information Center, EPA West Building, 1301 Constitution Avenue NW., Washington, DC 20460; or at the National Archives and Records Administration (NARA). If you wish to obtain material from the EPA Regional Office, please call (800) 223-0425 or (913) 551-7122; for material from a docket in EPA Headquarters Library, please call the Office of Air and Radiation Docket at (202) 566-1742. For information on the availability of this material at NARA, call (202) 741-6030, or go to: http://www.archives.gov/federal_register/code_of_federal_regulations/ibr_locations.html.

* * * * *

PART 59—NATIONAL VOLATILE ORGANIC COMPOUND EMISSION STANDARDS FOR CONSUMER AND COMMERCIAL PRODUCTS

16. The authority citation for part 59 continues to read as follows:

Authority: 42 U.S.C. 7414 and 7511b(e).

Subpart B—National Volatile Organic Compound Emission Standards for Automobile Refinish Coatings

17. Section 59.107 is amended by revising the address for Region VII to read as follows:

§ 59.107 Addresses of EPA Regional Offices.

* * * * *

EPA Region VII (Iowa, Kansas, Missouri, Nebraska), Director, Air and Waste Management Division, 11201 Renner Boulevard, Lenexa, Kansas 66219.

* * * * *

Subpart C—National Volatile Organic Compound Emission Standards for Consumer Products

18. Section 59.210 is amended by revising the address for Region VII to read as follows:

§ 59.210 Addresses of EPA Regional Offices.

* * * * *

EPA Region VII (Iowa, Kansas, Missouri, Nebraska), Director, Air and Waste Management Division, 11201 Renner Boulevard, Lenexa, Kansas 66219.

* * * * *

Subpart D—National Volatile Organic Compound Emission Standards for Architectural Coatings

19. Section 59.409 is amended by revising the address for Region 7 in paragraph (a) to read as follows:

§ 59.409 Addresses of EPA Offices.

(a) * * *

EPA Region VII (Iowa, Kansas, Missouri, Nebraska), Director, Air and Waste Management Division, 11201 Renner Boulevard, Lenexa, Kansas 66219.

* * * * *

Subpart E—National Volatile Organic Compound Emission Standards for Aerosol Coatings

20. Section 59.512 is amended by revising the address for Region VII to read as follows:

§ 59.512 Addresses of EPA regional offices.

* * * * *

EPA Region VII (Iowa, Kansas, Missouri, Nebraska), Director, Air and Waste Management Division, 11201 Renner Boulevard, Lenexa, Kansas 66219.

* * * * *

PART 60—STANDARDS OF PERFORMANCE FOR NEW STATIONARY SOURCES

21. The authority citation for part 60 continues to read as follows:

Authority: 42 U.S.C. 7401 et seq.

Subpart A—GENERAL PROVISIONS

22. Section 60.4 is amended by revising the address for Region VII in paragraph (a) to read as follows:

§ 60.4 Address.

(a) * * *

Region VII (Iowa, Kansas, Missouri, Nebraska), Director, Air and Waste Management Division, 11201 Renner Boulevard, Lenexa, Kansas 66219.

* * * * *

PART 61—NATIONAL EMISSION STANDARDS FOR HAZARDOUS AIR POLLUTANTS

23. The authority citation for part 61 continues to read as follows:

Authority: 42 U.S.C. 7401 et seq.

Subpart A—General Provisions

24. Section 61.04 is amended by revising the address for Region VII in paragraph (a) to read as follows:

§ 61.04 Address.

(a) * * *

Region VII (Iowa, Kansas, Missouri, Nebraska), Director, Air and Waste Management Division, 11201 Renner Boulevard, Lenexa, Kansas 66219.

* * * * *

PART 62—APPROVAL AND PROMULGATION OF STATE PLANS FOR DESIGNATED FACILITIES AND POLLUTANTS

25. The authority citation for part 62 continues to read as follows:

Authority: 42 U.S.C. 7401 et seq.

Subpart A—General Provisions

26. Section 62.10 is amended by revising the seventh entry for Region VII address in the table to read as follows:

§ 62.10 Submission to Administrator.

* * * * *

Region and jurisdiction covered | Address
* * * * * * *
VII—Iowa, Kansas, Missouri, Nebraska | Air and Waste Management Division 11201 Renner Boulevard, Lenexa, Kansas 66219.
* * * * * * *

PART 63—NATIONAL EMISSION STANDARDS FOR HAZARDOUS AIR POLLUTANTS FOR SOURCE CATEGORIES

27. The authority citation for part 63 continues to read as follows:

Authority: 42 U.S.C. 7401 et seq.

Subpart A—General Provisions

28. Section 63.13 is amended by revising the address for Region VII in paragraph (a) to read as follows:

§ 63.13 Addresses of State air pollution control agencies and EPA Regional Offices.

(a) * * *

EPA Region VII (Iowa, Kansas, Missouri, Nebraska), Director, Air and Waste Management Division, 11201 Renner Boulevard, Lenexa, Kansas 66219.

* * * * *

PART 65—CONSOLIDATED FEDERAL AIR RULE

29. The authority citation for part 65 continues to read as follows:

Authority: 42 U.S.C. 7401 et seq.

Subpart A—General Provisions

30. Section 65.14 is amended by revising the address for Region VII in paragraph (a) to read as follows:

§ 65.14 Addresses.

(a) * * *

Region VII (Iowa, Kansas, Missouri, Nebraska), Director, Air and Waste Management Division, 11201 Renner Boulevard, Lenexa, Kansas 66219.

* * * * *

PART 82—PROTECTION OF STRATOSPHERIC OZONE

31. The authority citation for part 82 continues to read as follows:

Authority: 42 U.S.C. 7414, 7601, 7671-7671q.

Subpart B—Servicing of Motor Vehicle Air Conditioners

32. Section 82.42 is amended by revising paragraph (a)(1)(iii)(G) to read as follows:

§ 82.42 Certification, recordkeeping and public notification requirements.

(a) * * *

(1) * * *

(iii) * * *

(G) Owners or lessees of recycling or recovery equipment having their places of business in Iowa, Kansas, Missouri, Nebraska must send their certifications to: CAA section 609 Enforcement Contact; EPA Region 7; Mail Code APCO/APDB/ACES; 11201 Renner Boulevard, Lenexa, Kansas 66219.

* * * * *

Subpart F—Recycling and Emissions Reduction

33. Section 82.162 is amended by revising the introductory text of paragraph (a)(5), and the address for Region VII in paragraph (a)(5), to read as follows:

§ 82.162 Certification by owners of recovery and recycling equipment.

(a) * * *

(5) The certification must also include a statement that the equipment will be properly used in servicing or disposing of appliances and that the information given is true and correct. Owners or lessees of recycling or recovery equipment having their places of business in:

* * *

Iowa, Kansas, Missouri, Nebraska must send their certifications to: CAA section 609 Enforcement Contact; EPA Region 7; Mail Code AWMD/APCO/ACES; 11201 Renner Boulevard, Lenexa, Kansas 66219.

* * * * *

PART 147—STATE, TRIBAL, AND EPA-ADMINISTERED UNDERGROUND INJECTION CONTROL PROGRAMS

34. The authority citation for part 147 continues to read as follows:

Authority: 42 U.S.C. 300h et seq.; and 42 U.S.C. 6901 et seq.

Subpart R—Kansas

35. Section 147.850 is amended by revising paragraph (a) introductory text to read as follows:

§ 147.850 State administered program—Class I, III, IV and V wells.

* * * * *

(a) Incorporation by reference. The requirements set forth in the State statutes and regulations cited in this paragraph are hereby incorporated by reference and made a part of the applicable UIC program under the SDWA for the State of Kansas. This incorporation by reference was approved by the Director of the OFR in accordance with 5 U.S.C. 552(a) and 1 CFR part 51. Copies may be obtained at the Kansas Department of Health and Environment, Charles Curtis State Office Building, 1000 SW. Jackson, Topeka, Kansas 66612. Copies may be inspected at EPA Region 7, 11201 Renner Boulevard, Lenexa, Kansas 66219, or at the National Archives and Records Administration (NARA). For information on the availability of this material at NARA, call 202-741-6030, or go to: http://www.archives.gov/federal_register/code_of_federal_regulations/ibr_locations.html.

* * * * *

PART 282—APPROVED UNDERGROUND STORAGE TANK PROGRAMS

36. The authority citation for part 282 continues to read as follows:

Authority: 42 U.S.C. 6912, 6991c, 6991d, and 6991e.

Subpart A—General Provisions

37. Section 282.2 is amended by revising paragraph (b)(7) to read as follows:

§ 282.2 Incorporation by reference.

* * * * *

(b) * * *

(7) Region 7 (Iowa, Kansas, Missouri, Nebraska); 11201 Renner Boulevard, Lenexa, Kansas 66219.

* * * * *

PART 374—PRIOR NOTICE OF CITIZEN SUITS

38. The authority citation for part 347 continues to read as follows:

Authority: 42 U.S.C. 9659.

39. Section 374.6 is amended by revising the address for Region VII to read as follows:

§ 374.6 Addresses.

* * * * *

Regional Administrator, Region VII, U.S. Environmental Protection Agency, 11201 Renner Boulevard, Lenexa, Kansas 66219.

* * * * *

PART 707—CHEMICAL IMPORTS AND EXPORTS

40. The authority citation for part 707 continues to read as follows:

Authority: 15 U.S.C. 2611(b) and 2612.

Subpart B-General Import Requirements and Restrictions

41. Section 702.20 is amended by revising the address for Region VII in paragraph (c)(2)(ii) to read as follows:

§ 707.20 Chemical substances import policy.

* * * * *

(c) * * *

(2) * * *

(ii) * * *

Region VII

11201 Renner Boulevard, AWMD/WEMM, Lenexa, Kansas 66219

* * * * *

PART 763—ASBESTOS

42. The authority citation for part 763 continues to read as follows:

Authority: 15 U.S.C. 2605, 2607(c), 2643, and 2646.

Subpart E—Asbestos Containing Materials in Schools

43. Appendix C to Subpart E is amended by revising the address for Region VII under II.C.3. to read as follows:

Appendix C to Subpart E of Part 763—Asbestos Model Accreditation Plan

* * * * *

II. * * *

C. * * *

3. * * *

EPA, Region VII, (WWPD/TOPE), Asbestos Coordinator, U.S. Environmental Protection Agency, 11201 Renner Boulevard, Lenexa, Kansas 66219. (800) 223-0425 or (913) 551-7122.

44. Appendix D to Subpart E is amended by revising the address for Region VII to read as follows:

Appendix D to Subpart E of Part 763—Transport and Disposal of Asbestos Waste

* * * * *

Region VII

Asbestos NESHAPs Contact, Air and Waste Management Division, U.S. Environmental Protection Agency, Region 7, 11201 Renner Boulevard, Lenexa, Kansas 66219. (800) 223-0425 or (913) 551-7122.

* * * * *

[FR Doc. 2013-15039 Filed 6-24-13; 8:45 am]

BILLING CODE 6560-50-P